Title 3—

The President

Presidential Determination No. 2021-11 of August 16, 2021

Unexpected Urgent Refugee and Migration Needs

Memorandum for the Secretary of State

By the authority vested in me as President by the Constitution and the laws of the United States of America, including section 2(c)(1) of the Migration and Refugee Assistance Act of 1962 (22 U.S.C. 2601(c)(1)) (MRAA), I hereby determine, pursuant to section 2(c)(1) of the MRAA, that it is important to the national interest to furnish assistance under the MRAA in an amount not to exceed $500 million from the United States Emergency Refugee and Migration Assistance Fund for the purpose of meeting unexpected urgent refugee and migration needs of refugees, victims of conflict, and other persons at risk as a result of the situation in Afghanistan, including applicants for Special Immigrant Visas. Such assistance may be provided on a bilateral or multilateral basis as appropriate, including through contributions to international organizations and through funding to other nongovernmental organizations, governments, and United States departments and agencies.

You are authorized and directed to submit this determination to the Congress, along with the accompanying Justification, and to publish this determination in the Federal Register

THE WHITE HOUSE,

Washington, August 17, 2021

[FR Doc. 2021-18062

Filed 8-19-21; 8:45 am]

Billing code 9111-23-P